DEPARTMENT OF TRANSPORTATION

Federal Aviation Administration

14 CFR Part 39

[Docket No. FAA-2011-0468; Directorate Identifier 2011-CE-013-AD; Amendment 39-16697; AD 2011-09-51]

RIN 2120-AA64

Airworthiness Directives; PIAGGIO AERO INDUSTRIES S.p.A Model PIAGGIO P-180 Airplanes

AGENCY: Federal Aviation Administration (FAA), DOT.

ACTION: Final rule; correction.

SUMMARY: The FAA is correcting an airworthiness directive (AD) that published in the Federal Register. That AD applies to the products listed above. The AD number in the preamble on the first page of the AD is incorrect. This document corrects that error. In all other respects, the original document remains the same.

DATES: This final rule is effective June 24, 2011. The effective date for AD 2011-09-51 remains May 31, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Mike Kiesov, Aerospace Engineer, Small Airplane Directorate, FAA, 901 Locust, Kansas City, MO 64106; phone: (816) 329-4144; fax: (816) 329-4090; e-mail: mike.kiesov@faa.gov.

SUPPLEMENTARY INFORMATION: Airworthiness Directive 2011-09-51, Amendment 39-16697 (76 FR 27872, May 13, 2011), currently requires an inspection and functional test of the valves and drain holes in the fuselage and requires sending a report of the results to Piaggio. If the valves and drain holes are found to not drain properly and where no additional drain holes have been drilled, then there is a requirement to drill additional drain holes.

As published, the AD number specified in the preamble section of the first page is incorrect.

No other part of the preamble or regulatory information has been changed; therefore, only the changed portion of the final rule is being published in the Federal Register.

The effective date of AD 2011-09-51 remains May 31, 2011.

Correction of Non-Regulatory Text

In the Federal Register of May 13, 2011, AD 2011-09-51, Amendment 39-16697, on page 27872, in the 3rd column, on line 3 of the agency identification number section of the preamble of AD 2011-09-51, the AD number is incorrectly referenced as AD 2011-10-16. This correction changes that AD number to AD 2011-09-51.

Issued in Kansas City, Missouri, on June 20, 2011.
Earl Lawrence,
Manager, Small Airplane Directorate, Aircraft Certification Service.

[FR Doc. 2011-15810 Filed 6-23-11; 8:45 am]

BILLING CODE 4910-13-P